SUSQUEHANNA RIVER BASIN COMMISSION

Notice of Public Hearing and Commission Meeting

AGENCY: Susquehanna River Basin Commission.

ACTION: Notice of public hearing and commission meeting.

SUMMARY: The Susquehanna River Basin Commission will hold a public hearing as part of its regular business meeting beginning at 8:30 a.m. on September 12, 2007 in Binghamton, New York. At the public hearing, the Commission will consider the approval of certain water resources projects and the rescission of one docket approval. Details concerning the projects to be addressed at the public hearing, as well as other matters on the business meeting agenda, are contained in the Supplementary Information section of this notice.

DATES: September 12, 2007.

ADDRESSES: Grande Royale Hotel, 80 State Street, Binghamton, New York. See Supplementary Information section for mailing and electronic mailing addresses for submission of written comments.

FOR FURTHER INFORMATION CONTACT: Richard A. Cairo, General Counsel, telephone: (717) 238-0423; ext. 306; fax: (717) 238-2436; e-mail: rcairo@srbc.net or Deborah J. Dickey, Secretary to the Commission, telephone: (717) 238-0423, ext. 301; fax: (717) 238-2436; e-mail: ddickey@srbc.net.

SUPPLEMENTARY INFORMATION: In addition to the public hearing and its related action items identified below, the business meeting also includes the following items on the agenda: (1) A panel session regarding New York State's involvement in the Chesapeake Bay Program; (2) a report on the present hydrologic conditions of the basin; (3) approval of a proposed rule making action to amend certain provisions of 18 CFR Part 806 related to agricultural consumptive water use; and (4) various contract and grant approvals.

Public Hearing—Projects Scheduled for Action

1. Project Sponsor and Facility: Town of Erwin (Wells 2 and 3, and ID Well 1), Steuben County, NY Modification of groundwater approval (Docket No. 20070602).

2. Project Sponsor: South Slope Development Corporation. Project Facility: Song Mountain Ski Resort, Town of Preble, Cortland County, NY Applications for surface water withdrawal of 3.705 mgd, groundwater withdrawal of 0.960 mgd, and consumptive water use of up to 0.815 mgd.

3. Project Sponsor: AES Westover, LLC. Project Facility: AES Westover Generating Station, Town of Union, Broome County, NY Applications for surface water withdrawal of 97.300 mgd and consumptive water use of up to 2.067 mgd.

4. Project Sponsor and Facility: Town of Cohocton (Well 3), Village of Cohocton, Steuben County, NY Modification of groundwater withdrawal approval (Docket No. 19990703).

5. Project Sponsor: Northampton Fuel Supply Company, Inc. Project Facility: Loomis Bank Operation, Hanover Township, Luzerne County, Pa. Modification of consumptive water use approval (Docket No. 20040904).

6. Project Sponsor: PPL Susquehanna, LLC. Project Facility: Susquehanna Steam Electric Station, Salem Township, Luzerne County, Pa. Approval of groundwater and surface water withdrawals of 66.000 mgd, and modification of consumptive water use approval (Docket No. 19950301).

7. Project Sponsor: Bionol Clearfield LLC. Project Facility: Bionol-Clearfield, Clearfield Borough, Clearfield County, Pa. Applications for surface water withdrawal of 2.505 mgd and consumptive water use of up to 2.000 mgd.

8. Project Sponsor and Facility: Walker Township Water Association (Snydertown Well 3), Walker Township, Centre County, Pa. Application for groundwater withdrawal of 0.860 mgd.

9. Project Sponsor and Facility: Bedford Township Municipal Authority (Bowman Tract Wells 1 and 2), Bedford Township, Bedford County, Pa. Modification of groundwater withdrawal approval (Docket No. 19990502).

10. Project Sponsor: Charles Header. Project Facility: Laurel Springs Development, Barry Township, Schuylkill County, Pa. Applications for groundwater withdrawal of 0.099 mgd and consumptive water use of up to 0.099 mgd.

11. Project Sponsor and Facility: Dillsburg Area Authority (Well 7), Carroll Township, York County, Pa. Application for groundwater withdrawal of 0.360 mgd.

12. Project Sponsor: PPL Brunner Island, LLC. Project Facility: Brunner Island Steam Electric Station, East Manchester Township, York County, Pa. Applications for surface water withdrawal of 835.000 mgd and consumptive water use of up to 12.100 mgd.

Public Hearing—Project Scheduled for Rescission Action

1. Project Sponsor: Northampton Fuel Supply Company, Inc. (Docket No. 20040903). Project Facility: Prospect Bank Operation, Plains Township, Luzerne County, Pa.

Opportunity To Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Deborah J. Dickey, Secretary to the Commission, e-mail: ddickey@srbc.net. Comments mailed or electronically submitted must be received prior to September 12, 2007 to be considered.

Authority: Public Law 91-575, 84 Stat. 1509 et seq., 18 CFR Parts 806, 807, and 808

Dated: August 14, 2007.
Thomas W. Beauduy,
Deputy Director.

[FR Doc. E7-16662 Filed 8-22-07; 8:45 am]

BILLING CODE 7040-01-P